FEDERAL COMMUNICATIONS COMMISSION

47 CFR Part 90

[WT Docket No. 99-87, FCC 00-403]

Revised Competitive Bidding Authority

AGENCY: Federal Communications Commission.

ACTION: Final rule; announcement of effective date.

SUMMARY: This document is to show rules amended by the Commission in order to changes to its statutory auction authority, shall become effective March 2, 2001. These sections, which contained new information collection requirements, were published in the Federal Register on January 2, 2001. This is to let the public know the effective date of the rules that contain new information collection requirements.

EFFECTIVE DATE: The amendments to 47 CFR Part 90, 47 CFR 90.621(e)(2) published at 66 FR 33 (January 2, 2001) are effective March 2, 2001.

FOR FURTHER INFORMATION CONTACT: Jim Shaffer, Public Safety and Private Wireless Division, Wireless Telecommunications Bureau, (202) 418-0680.

SUPPLEMENTARY INFORMATION: On November 9, 2000, the Commission adopted a Report and Order (FCC 00-403) to implement sections 309(j) and 337 of the Communications Act of 1934, as amended, as amended by the Balanced Budget Act of 1997 a summary of which was published in the Federal Register. See 66 FR 33, January 2, 2001. We stated that the Part 90 of the Commission's Rules, 47 CFR Part 90, is amended effective March 2, 1001, §90.621(e)(2) which contains information collections that are not effective until approved by the Office of Management and Budget. We also stated that the Commission will publish a document in the Federal Register announcing the effective date for those sections. This statement requires further action by the Commission to establish the effective date, notwithstanding the preceding statement in the summary that the rule change would become effective upon OMB approval. In order to resolve this matter in a manner that most appropriately provides interested parties with proper notice, the rule changes adopted in the Order shall become effective March 2, 1001. The information collection were approved by OMB on January 29, 2001. See OMB No. 3060-0970.

List of Subjects in 47 CFR Part 90

Communications equipment, Radio, Reporting and recordkeeping requirements.

Federal Communications Commission.

Magalie Roman Salas,
Secretary.

[FR Doc. 01-4725 Filed 2-26-01; 8:45 am]

BILLING CODE 6712-01-M